DEPARTMENT OF TRANSPORTATION

Federal Aviation Administration

14 CFR Part 39

[Docket No. FAA-2012-0500; Directorate Identifier 2010-SW-014-AD]

RIN 2120-AA64

Airworthiness Directives; Eurocopter Deutschland GmbH Helicopters

AGENCY: Federal Aviation Administration (FAA), DOT.

ACTION: Notice of proposed rulemaking (NPRM).

SUMMARY: We propose to adopt a new airworthiness directive (AD) for all Eurocopter Deutschland GmbH (ECD) model EC135 helicopters, except the EC 135 P2+ and T2+. This proposed AD was prompted by two reports of the plain journal bearings moving in relation to the main rotor swashplate sliding sleeve (sliding sleeve). The actions specified by this proposed AD are intended to detect shifting of the plain journal bearing, which could limit the movement of the collective control and result in subsequent loss of control of the helicopter.

DATES: We must receive comments on this proposed AD by July 10, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 Forum Drive, Grand Prairie, TX 75053-4005, telephone (800) 232-0323, fax (972) 641-3710, or at http://www.eurocopter.com. You may review a copy of the referenced service information at the FAA, Office of the Regional Counsel, Southwest Region, 2601 Meacham Blvd., Room 663, Fort Worth, Texas 76137.

FOR FURTHER INFORMATION CONTACT: Gary Roach, Aviation Safety Engineer, FAA, Rotorcraft Directorate, Regulations and Policy Group, 2601 Meacham Blvd., Fort Worth, Texas 76137, telephone (817) 222-5130, email: gary.b.roach@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued AD No. 2009-0272, dated December 18, 2009 (AD 2009-0272), to correct an unsafe condition for Eurocopter Model EC 135 and EC 635 helicopters. EASA advises that during two separate pre-flight checks on Model EC 135 helicopters in 2005, it was detected that one of the plain journal bearings of the sliding sleeve had moved to the outside of the sliding sleeve. EASA states that this condition, if not detected and corrected, could lead to a complete shift of the plain journal bearing to the inside or outside, creating the possibility of a limited movement of the collective, which could result in reduced control of the helicopter.

FAA's Determination

These helicopters have been approved by the aviation authority of the Federal Republic of Germany and are approved for operation in the United States. Pursuant to our bilateral agreement with the Federal Republic of Germany, EASA, its technical representative, has notified us of the unsafe condition described in its AD. We are proposing this AD because we evaluated all known relevant information and determined that an unsafe condition is likely to exist or develop on other helicopters of these same type designs.

Related Service Information

We reviewed Eurocopter Alert Service Bulletin (ASB) EC135-62A-021, dated June 23, 2005 (EC135-62A-021). EC135-62A-021 describes procedures for visually checking the upper and lower plain journal bearings of the sliding sleeve during preflight. EASA classified this ASB as mandatory and issued AD 2009-0272 to ensure the continued airworthiness of these helicopters.

Proposed AD Requirements

This proposed AD would require, at intervals not to exceed 5 hours time in service (TIS), visually inspecting the upper and lower plain journal bearings of the sliding sleeve to detect a dislocated plain journal bearing on Eurocopter Model EC 135 P1, P2, T1, and T2 helicopters with swashplate sliding sleeve, part number (P/N) L623M2006101, installed.

Differences Between This Proposed AD and the EASA AD

This proposed AD differs from the EASA AD as follows:

• This proposed AD requires the inspection to be performed by a mechanic, and repeated every 5 hours TIS. AD 2009-0272 allows the visual inspection to be accomplished by a pilot during preflight inspection.

• This proposed AD does not require contacting ECD customer service for corrective actions.

• This proposed AD provides terminating action for the inspection requirements for the upper and lower plain journal bearings by replacing the swashplate assembly with a later-design swashplate assembly, P/N L623M2005103.

• The EASA AD applies to ECD model EC635 aircraft, and this proposed AD does not because the EC635 does not have an FAA issued type-certificate.

Costs of Compliance

We estimate that this proposed AD would affect 218 helicopters of U.S. registry. We estimate that operators may incur the following costs in order to comply with this AD. Inspecting the upper and lower plain journal bearings requires about .25 work hour at an average labor rate of $85 per hour, for a cost per helicopter of $22 and a total cost to the U.S. operator fleet of $4,796 per inspection cycle. If required, replacing the swashplate assembly will require about 8 work hours at an average labor rate of $85 per hour, and required parts will cost about $38,586, for a total cost per helicopter of $39,266.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter Deutschland GMBH: Docket No. FAA-2012-0500; Directorate Identifier 2010-SW-014-AD.

(a) Applicability

This AD applies to all Eurocopter Deutschland GmbH (ECD) Model EC135 helicopters, except EC 135 P2+ and EC135 T2+, with a swashplate assembly, part number (P/N) L623M2006101, installed, certificated in any category.

(b) Unsafe Condition

This AD defines the unsafe condition as movement of the plain journal bearings to the outside of the main rotor swashplate sliding sleeve (sliding sleeve). This condition could limit movement of the collective and result in subsequent loss of control of the helicopter.

(c) Compliance

You are responsible for performing each action required by this AD within the specified compliance time unless it has already been accomplished prior to that time.

(d) Required Actions

Within 5 hours time-in-service (TIS), and thereafter at intervals not to exceed 5 hours TIS:

(1) Visually inspect the position of the upper plain journal bearings and determine if it is flush with the sliding sleeve.

Note 1: Figure 1 of Eurocopter Alert Service Bulletin EC135-62A-021, dated June 23, 2005, which is not incorporated by reference, contains additional information about the inspection.

(2) Visually inspect the lower plain journal bearing and determine if it is recessed 2 millimeters from the sliding sleeve.

(3) If the upper plain journal bearing is not flush with the sliding sleeve or the lower plain journal bearing is not recessed 2mm, before further flight, replace the swashplate assembly with an airworthy swashplate assembly.

(4) Replacing the swashplate assembly, P/N L623M2006101, with a later designed swashplate assembly, P/N L623M2005103, constitutes a terminating action for the requirements of this AD.

(e) Alternative Methods of Compliance (AMOC)

(1) The Manager, Safety Management Group, FAA, may approve AMOCs for this AD. Send your proposal to: Gary Roach, Aviation Safety Engineer, FAA, Rotorcraft Directorate, Regulations and Policy Group, 2601 Meacham Blvd., Fort Worth, Texas 76137, telephone (817) 222-5130, email: gary.b.roach@faa.gov.

(2) For operations conducted under a Part 119 operating certificate or under Part 91, Subpart K, we suggest that you notify your principal inspector, or lacking a principal inspector, the manager of the local flight standards district office or certificate holding district office before operating any aircraft complying with this AD through an AMOC.

(f) Additional Information

(1) Eurocopter Alert Service Bulletin EC135-62A-021, dated June 23, 2005, which is not incorporated by reference, contains additional information about the subject of this AD. For service information identified in this AD, contact American Eurocopter Corporation, 2701 Forum Drive, Grand Prairie, TX 75053-4005, telephone (800) 232-0323, fax (972) 641-3710, or at http://www.eurocopter.com. You may review a copy of the service information at the FAA, Office of the Regional Counsel, Southwest Region, 2601 Meacham Blvd., Room 663, Fort Worth, Texas 76137.

(2) The subject of this AD is addressed in European Aviation Safety Agency AD 2009-0272, dated December 18, 2009.

(g) Subject

Joint Aircraft Service Component (JASC) Code: 6230: Main Rotor Mast/Swashplate.

Issued in Fort Worth, Texas, on May 2, 2012.
Carlton N. Cochran,
Acting Manager, Rotorcraft Directorate, Aircraft Certification Service.

[FR Doc. 2012-11470 Filed 5-10-12; 8:45 am]

BILLING CODE 4910-13-P